SOCIAL SECURITY ADMINISTRATION

[Docket No. SSA-2013-0001]

Public Availability of Social Security Administration Fiscal Year (FY) 2012 Service Contract Inventory

AGENCY: Social Security Administration.

ACTION: Notice of Public Availability of FY 2012 Service Contract Inventories.

SUMMARY: In accordance with Section 743 of Division C of the Consolidated Appropriations Act of 2010 (Pub. L. 111-117), we are publishing this notice to advise the public of the availability of the FY 2012 Service Contract inventory. This inventory provides information on FY 2012 service contract actions over $25,000. We organized the information by function to show how contracted resources are distributed throughout the agency. We developed the inventory in accordance with guidance issued on November 5, 2010 by the Office of Management and Budget's Office of Federal Procurement Policy (OFPP). OFPP's guidance is available at http://www.whitehouse.gov/sites/default/files/omb/procurement/memo/service-contract-inventories-guidance-11052010.pdf. You can access the inventory and summary of the inventory on our homepage at the following link: http://www.socialsecurity.gov/sci.

FOR FURTHER INFORMATION CONTACT: Paul Martin, Executive Officer, Office of Budget, Social Security Administration, 6401 Security Boulevard, Baltimore, MD 21235-6401. Phone (410) 965-0387, email Paul.J.Martin@ssa.gov.

Dated: January 18, 2013.
Michael G. Gallagher,
Deputy Commissioner for Budget, Finance and Management.

[FR Doc. 2013-01826 Filed 1-28-13; 8:45 am]

BILLING CODE 4191-02-P